DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: Foreign Availability Procedures and Criteria.

Agency Form Number: None.

OMB Approval Number: 0694-0004.

Type of Request: Regular submission.

Burden Hours: 510.

Number of Respondents: 2.

Average Time per Response: 255 hours.

Needs and Uses: The Office of Technology Evaluation (BIS) responds to requests by Congress and industry to make foreign availability determinations. This office identifies foreign goods and technology analogous to American equipment subject to export controls. The U.S. and foreign equipment, however, must demonstrate a similarity of design or approach to the technical problems as well as exhibit similar performance and reliability characteristics.

The foreign equipment must be of comparable quality and available in sufficient quantities to controlled destinations. Continued restrictions on U.S. exports when comparable items are available from uncontrollable sources decreases U.S. competitiveness in high-technology industries and undermines U.S. national security interests.

Affected Public: Business or other for-profit institutions.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: August 22, 2007.
Gwellnar Banks,
Management Analyst, Office of the Chief Information Officer.

[FR Doc. E7-16974 Filed 8-27-07; 8:45 am]

BILLING CODE 3510-DT-P